ENVIRONMENTAL PROTECTION AGENCY

[EPA-HQ-OAR-2005-0161; FRL-9284-2]

40 CFR Part 80

Denial of Petitions for Reconsideration of Regulation of Fuels and Fuel Additives: Changes to Renewable Fuel Standard Program

AGENCY: Environmental Protection Agency (EPA).

ACTION: Notice of denial of petitions for reconsideration.

SUMMARY: On May 24, 2010, the Clean Air Task Force (CATF), the National Wildlife Federation, the World Wildlife Fund and the Friends of the Earth petitioned the Administrator to reconsider an EPA rule, published on March 26, 2010 (75 FR 14670), which amended the Renewable Fuel Standard Program pursuant to Clean Air Act section 211(o). The petitioners alleged that EPA failed to properly require producers of renewable fuels to verify domestic crops and crop residues used to produce the renewable fuels complied with the applicable land use restrictions. Additionally, the CATF alleged that EPA did not properly account for the “global rebound effect” in the final analysis of the lifecycle greenhouse gas (GHG) emission impacts of renewable fuel production and use. On February 17, 2011, the Administrator denied the petitions for reconsideration and the accompanying requests for stays in implementing the regulations. This Notice announces the availability of EPA's decision.

DATES: EPA's denials of the petitions to reconsider were issued by letters dated February 17, 2011.

FOR FURTHER INFORMATION CONTACT: Paul Argyropoulos in the EPA's Office of Transportation and Air Quality at (202) 564-1123 or argyropoulos.paul@epa.gov.

SUPPLEMENTARY INFORMATION: On May 24, 2010, the Clean Air Task Force (CATF), the National Wildlife Federation, the World Wildlife Fund and the Friends of the Earth petitioned the Administrator to reconsider an EPA rule, published on March 26, 2010 (75 FR 14670), which amended the Renewable Fuel Standard Program. This amendment (commonly referred to as RFS2) was adopted in response to Clean Air Act Section 211(o) as amended by the Energy Independence and Security Act of 2007 (EISA). The petitioners alleged that EPA failed to properly require producers of renewable fuels to verify domestic crops and crop residues used to produce the renewable fuels complied with the land use restrictions in EISA. The petitioners other than CATF requested a stay of the aggregate compliance portion of the RFS2 rules. Additionally, the CATF alleged that in this rule, EPA did not properly account for the “global rebound effect” in the final analysis of the lifecycle greenhouse gas (GHG) emission impacts of renewable fuel production and use. CATF requested a stay of the entire RFS2 final rule.

The EPA considers the lifecycle GHG emission assessment of renewable fuels and the land use restrictions applicable to renewable biomass provisions to be important parts of the RFS2 program and carefully reviewed the arguments and information provided by the petitioners on these two issues. On February 17, 2011, the Administrator responded by denying the petitions to reconsider. The EPA also denied all requests for a stay of implementation of the RFS2 regulations. The letters of denial and the supporting rationale have been posted on the EPA Web site at: http://www.epa.gov/otaq/fuels/renewablefuels/notices.htm.

Dated: March 14, 2011.
Margo Tsirigotis Oge,
Director, Office of Transportation and Air Quality, Office of Air and Radiation.

[FR Doc. 2011-6561 Filed 3-21-11; 8:45 am]

BILLING CODE 6560-50-P